DEPARTMENT OF ENERGY

Request for Information (RFI) for Updated Critical Materials Strategy

Correction

In notice document 2016-02676, appearing on pages 7087-7089 in the issue of Wednesday, February 10, 2016, make the following correction:

On page 7087, in the table on line 4, the term “Dish engine system” should appear in the second column under “Types” instead of the third column under “Components”.

On page 7089, in the first column, the heading “II. Confidential Business Information” should be in bold text.

[FR Doc. C1-2016-02676 Filed 2-16-16; 8:45 am]

BILLING CODE 1505-01-D